DEPARTMENT OF THE INTERIOR

National Park Service

Final Supplemental Environmental Impact Statement, Yosemite Valley Plan, Yosemite National Park, Mariposa, Madera, and Tuolumne Counties, California; Notice of Approval of Record of Decision

SUMMARY: Pursuant to section 102(2)(C) of the National Environmental Policy Act of 1969 (Pub. L. 91-190, as amended) and the regulations promulgated by the Council on Environmental Quality (40 CFR 1505.2), the Department of the Interior, National Park Service has prepared and approved a Record of Decision for the Final Supplemental Environmental Impact Statement on the Yosemite Valley Plan for Yosemite National Park. The decisions reached are consistent with the Revised Record of Decision for the Merced Wild and Scenic River Comprehensive Management Plan/Final Environmental Impact Statement.

Decision: The National Park Service (NPS) will implement actions, strategies, and programs encompassed in Alternative 2 as described in the Final Supplemental Environmental Impact Statement on the Yosemite Valley Plan. The selected alternative provides for an overall combination of actions to restore natural processes in Yosemite Valley, preserve cultural resource values, reduce harmful environmental impacts (including those related to traffic congestion), and continue to provide opportunities for high-quality visitor experiences based upon resource values. This course of action and four alternatives were identified and analyzed in the Draft and Final Supplemental Environmental Impact Statements (issued April 2000 and November 2000 respectively). The NPS identified Alternative 2 as presented in the Final Supplemental Environmental Impact Statement as the “environmentally preferred” alternative. Elements of the selected alternative are to be implemented as soon as practical.

Public Review and Consultation: The Draft and Final Supplemental Environmental Impact Statements (SEIS) on the Yosemite Valley Plan were prepared by the NPS pursuant to the National Environmental Policy Act. A Notice of Intent to initiate this conservation planning and environmental impact analysis process was published in the Federal Register on December 16, 1998. General issues and specific concerns already raised during previous relevant planning processes were provided to the public. Scoping comments were received through February 1, 1999. The Draft Yosemite Valley Plan/SEIS was formally announced for public review per Notice of Availability published in the Federal Register on April 13, 2000. The Final Yosemite Valley Plan/SEIS was announced on November 21, 2000. From initiation of the scoping process through December 26, 2000 when the “No Action” period for the Final Yosemite Valley Plan/SEIS officially concluded, almost 11,000 written responses were received (all written comments will be archived and available for public review in the park's research library). In addition, over 150 public meetings, discussions, and briefings (attended by over 1500 individuals and representatives of organizations, Tribes, elected officials, and congressional delegations) were conducted in the park, throughout California, and in Seattle, Washington; Denver, Colorado; Chicago, Illinois; and Washington, DC.

The NPS also consulted with various regulatory and resource protection agencies including the Advisory Council on Historic Preservation, State Historic Preservation Office, and the US Fish and Wildlife Service. As a result of these collaborations, as well as the public involvement indicated above, four action alternatives and appropriate mitigation strategies were identified, compared, and refined.

Copies: Interested parties can review the Record of Decision on the NPS website at www.nps.gov/yose/planning. Copies can also be obtained by contacting the Superintendent, Yosemite National Park, P.O. Box 577, Yosemite, California 95389; via telephone request at (209) 372-0261; or via email request at yose_planning@nps.gov.

Dated: January 5, 2001.
William C. Walters,
Acting Regional Director, Pacific West Region.

[FR Doc. 01-1110 Filed 1-11-01; 8:45 am]

BILLING CODE 4310-70-P